DEPARTMENT OF COMMERCE

National Oceanic and Atmospheric Administration

[I.D. 042707A]

Marine Mammals; File No. 486-1919

AGENCY: National Marine Fisheries Service (NMFS), National Oceanic and Atmospheric Administration (NOAA), Commerce.

ACTION: Notice; receipt of application.

SUMMARY: Notice is hereby given that Brent Stewart, Ph.D, J.D, Hubbs-SeaWorld Research Institute, 2595 Ingraham Street, San Diego, CA, 92109, has applied for a permit to conduct reseach on crabeater (Lobodon carcinophaga), Ross (Ommatophoca rossii), leopard (Hydruga leptonyx), and Weddell (Leptonychotes weddellii) seals in Antarctica.

DATES: Written, telefaxed, or e-mail comments must be received on or before June 14, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 486-1919.

FOR FURTHER INFORMATION CONTACT: Kate Swails or Tammy Adams, (301)713-2289.

SUPPLEMENTARY INFORMATION: The subject permit is requested under the authority of the Marine Mammal Protection Act of 1972, as amended (MMPA; 16 U.S.C. 1361 et seq.), and the regulations governing the taking and importing of marine mammals (50 CFR part 216).

The purpose of the proposed research is to collect basic information on the breeding behavior, health and diseases, foraging ecology, migratory patterns, and population genetics of ice-associated Antarctic pinnipeds. Up to 50 seals of each of the four species would be captured, weighed, measured, biologically sampled (skin, blubber, blood, fecal), flipper tagged, satellite tagged, microbiological swabbed, and released. Up to 100 seals of each of the four species would be incidentally disturbed as a result of observational studies, scat collection, and capture and sampling activities. No mortality is requested and the permit would be issued for one year.

Concurrent with the publication of this notice in the Federal Register, NMFS is forwarding copies of this application to the Marine Mammal Commission and its Committee of Scientific Advisors.

Dated: May 10, 2007.
P. Michael Payne,
Chief, Permits, Conservation and Education Division, Office of Protected Resources, National Marine Fisheries Service.

[FR Doc. E7-9325 Filed 5-14-07; 8:45 am]

BILLING CODE 3510-22-S